DEPARTMENT OF TRANSPORTATION

Federal Highway Administration

Environmental Impact Statement; Obion and Dyer Counties, Tennessee and Fulton County, Kentucky

AGENCY: Federal Highway Administration (FHWA), DOT.

ACTION: Notice of intent.

SUMMARY: The FHWA is issuing this notice to advise the public that an environmental impact statement will be prepared for a proposed highway project in Obion and Dyer Counties, Tennessee and Fulton County, Kentucky.

FOR FURTHER INFORMATION CONTACT: Mr. Mark Doctor, Project Management Engineer, Federal Highway Administration, 640 Grassmere Park, Suite 112, Nashville, Tennessee 37211, Telephone: (615) 781-5788.

SUPPLEMENTARY INFORMATION: The FHWA, in cooperation with the Tennessee Department of Transportation and the Kentucky Transportation Cabinet, will prepare an Environmental Impact Statement (EIS) on a proposal to construct a four-lane divided freeway in Obion and Dyer Counties, Tennessee and Fulton County, Kentucky. The proposed project would involve improvements to existing Highway US 51/State Route (SR) 3 from the interchange with Highway US 412/SR 20 in Dyer County, Tennessee, north to the Purchase Parkway in Fulton County, Kentucky, for a distance of about 74 kilometers (46 miles).

The proposed improvement is a section of independent utility of the Congressionally-designated High Priority Corridor 18, or future Interstate 69. The purpose of the corridor is to improve international and interstate trade and to facilitate economic development. The proposed project would also provide a link between two existing full access-controlled highways and provide for future traffic capacity needs.

Alternatives to be considered are: (1) Taking no action; (2) three build alternatives consisting of upgrading sections of existing US 51/SR 3 and building other sections on new location; and (3) other alternatives that may arise from public and agency input. Incorporated into and studied with the various build alternatives will be design variations of grade and alignment.

Letters describing the proposed action and soliciting comments will be sent to appropriate Federal, State and local agencies, and to private organizations and citizens who have previously expressed or are known to have an interest in this proposal. A public hearing will be held upon completion of the Draft EIS and public notice will be given of the time and place of the hearing. The Draft EIS will be available for public and agency review and comment prior to the public hearing. A formal scoping meeting is planned.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on: January 26, 2000.
Charles S. Boyd,
Tennessee Division Administrator, Nashville.

[FR Doc. 00-3272 Filed 2-10-00; 8:45 am]

BILLING CODE 4910-22-U